DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 21, 2008. Address written comments to Statutory Import Programs Staff, Room 2104, U.S. Department of Commerce, Washington, DC 20230. Applications may be examined between 8:30 a.m. and 5 p.m. at the U.S. Department of Commerce in Room 2104.

Docket Number: 08-027. Applicant: The Ohio State University, Materials Science and Engineering, 2041 College Rd., Columbus, OH 43210. Instrument: Electron Microscope, Model Helios 600. Manufacturer: FEI Company/Philips Electron Optics, the Netherlands. Intended Use: The instrument is intended to be used to study different types of solid state materials. It will be used for general morphological and structural studies of ceramics and metals, including high-temperature superconductors, high-temperature metal alloys, corrosion mitigation coatings, evaporated metal films, silicongermanium and II-V infra-red detectors, quantum dots, geological materials, polymers and possibly some biological samples. A unique characteristic of this instrument is that it is a Dual Beam instrument, i.e., this instrument is a combined Focused Ion Beam (FIB) and Scanning Electron Microscope. Application accepted by Commissioner of Customs: June 5, 2008.

Docket Number: 08-029. Applicant: Vanderbilt University, Center for Structural Biology, 465 21st Ave. South, MRB III, Suite 5140, Nashville, TN 37232-8725. Instrument: Electron Microscope, Model Tecnai G² F20 TWIN. Manufacturer: FEI Company, the Netherlands. Intended Use: The instrument is intended to be used to study purified biological macromolecular complexes. The instrument will be used to examine the three dimensional structures of these complexes. Application accepted by Commissioner of Customs: June 13, 2008.

Docket Number: 08-030. Applicant: University of Washington, 117 Fluke Hall, Nanotech User Facility, Center for Nanotechnology, Seattle, WA 98195. Instrument: Electron Microscope, Model Tecnai G² F20 S-TWIN. Manufacturer: FEI Company, the Netherlands. Intended Use: The instrument is intended to be used to examine biological, biomimetic, hybrid and polymeric materials as well as more traditional materials such as metals, alloys, ceramics, composites and electronic materials. The instrument will be used to understand the correlations between materials' structures and properties at the highest resolution possible and to investigate the novel interactions and assembles between traditional low-dimensional materials and biological materials. Application accepted by Commissioner of Customs: June 13, 2008.

Dated: June 24, 2008.
Faye Robinson,
Director, Statutory Import Programs Staff.

[FR Doc. E8-14759 Filed 6-30-08; 8:45 am]

BILLING CODE 3510-DS-M